DEPARTMENT OF ENERGY

Federal Energy Regulatory Commission

[Docket No. CP01-59-000]

Eastern Shore Natural Gas Company; Notice of Application

December 29, 2000.

Take notice that on December 22, 2000, Eastern Shore Natural Gas Company (Eastern Shore), Post Office Box 1769, Dover, Delaware 19903-1769, filed in Docket No. CP01-59-000 an application pursuant to Section 7(c) of the Natural Gas Act for authorization to construct and operate additional pipeline and compression facilities in Maryland and Pennsylvania to expand its system by providing added transportation capacity, all as more fully set forth in the application on file with the Commission and open to public inspection. This filing may be viewed on the web at http://www.ferc.fed.us/online/htm (call 202-208-2222 for assistance).

Eastern Shore proposes to construct and operate 6 miles of 16-inch pipeline looping on its existing system in Maryland and Pennsylvania, to install 3,330 horsepower of additional capacity at the existing Daleville Compressor Station on Eastern Shore's system in Chester County, Pennsylvania, and to install delivery point facilities in Chester County, Pennsylvania. It is stated that the proposed construction would enable Eastern Shore to provide 19,800 dt equivalent of additional daily firm service capacity on its system. Eastern Shore estimates the total cost of the proposed facilities at $12,478,745. It is requested that a certificate be issued allowing construction to be completed by November 1, 2001.

Eastern Shore asserts that the facilities would provide system-wide benefits without requiring a rate increase for existing customers. Therefore, Eastern Shore requests a determination that the cost of the project be given rolled-in rate treatment. Eastern Shore convened an open season for the additional capacity and secured 10-year firm contracts with PECO Energy Company, Connectiv Power Delivery, and Delaware Division of Chesapeake Utilities Corporation for the additional capacity.

Any questions regarding the application should be directed to Stephen C. Thompson, President, Eastern Shore Natural Gas Company, 417 Bank Lane, Dover, Delaware 19904 (302) 734-6710.

Any person desiring to be heard or to make any protest with reference to said application should on or before January 19, 2001, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically in lieu of paper. See 18 CFR 385.2001(a)(1)(iii) and the instructions on the Commission's website at http://ferc.fed.us/efi/doorbell.htm.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Eastern Shore to appear or be represented at the hearing.

Linwood A. Watson, Jr.,
Acting Secretary.

[FR Doc. 01-299 Filed 1-4-01; 8:45 am]

BILLING CODE 6717-01-M